DEPARTMENT OF COMMERCE

National Telecommunications and Information Administration

Agency Information Collection Activities; Submission to the Office of Management and Budget (OMB) for Review and Approval; Comment Request; Connecting Minorities Communities Pilot Program

AGENCY: National Telecommunications and Information Administration (NTIA), Commerce.

ACTION: Notice of information collection, request for comment.

SUMMARY: The Department of Commerce, following the Paperwork Reduction Act of 1995 (PRA), invites the public and other Federal agencies to comment on proposed and continuing information collections, which helps us assess the impact of our information collection requirements and minimize the public's reporting burden. This Notice of Information Collection is for the Connecting Minorities Communities Pilot Program Baseline Report, Performance Report and Annual Report. The purpose of this notice is to allow for 60 days of public comment preceding the submission of the collection to OMB.

DATES: To ensure consideration, comments regarding this proposed information collection must be received on or before April 18, 2022.

ADDRESSES: Interested persons are invited to submit written comments by mail to Jennifer Duane, Director, Grants Management, Administration, and Compliance, Office of internet Connectivity and Growth, National Telecommunication and Information Administration, U.S. Department of Commerce, 1401 Constitution Avenue NW, Room 4887, Washington, DC 20230, or by email to broadbandusa@ntia.gov. Please reference CMC Data Collection in the subject line of your comments. Do not submit Confidential Business Information or otherwise sensitive or protected information.

FOR FURTHER INFORMATION CONTACT: Requests for additional information or specific questions related to collection activities should be directed Jennifer Duane, Director, Grants Management, Administration, and Compliance, via email at jduane@ntia.gov; broadbandusa@ntia.gov; or via telephone at (202) 482-2048.

SUPPLEMENTARY INFORMATION:

I. Abstract

The Connecting Minority Communities Pilot Program (CMC), authorized by the Consolidated Appropriations Act, 2021, Division N, Title IX, Section 902 (c), Public Law 116-260, 134 stat. 1182 Dec. 27, 2020) (Act), aims to address the lack of broadband access, connectivity, adoption, and equity to Historically Black Colleges and Universities (HBCUs), Tribal Colleges and Universities (TCUs), and Minority Serving Institutions (MSIs), and their surrounding anchor communities. NTIA will make up to 268,000,000 available for federal assistance to eligible entities and programs to facilitate educational instruction and learning, purchase or lease eligible equipment and devices for student or patron use and hire and train information technology personnel who are a part of the eligible anchor institution, MBE, or tax-exempt 501(c)(3) organization.

On August 3, 2021, NTIA published the program's Notice of Funding Opportunity (NOFO) on Grants.gov to describe the requirements under which it will award grants for the CMC.¹ The NOFO required award recipients to submit financial reports, performance (technical) reports, and annual reports to the NTIA Federal Program Officer and the NOAA Grants Officer and Grants Specialist. Award recipients must follow the reporting requirements described in Sections A.01, Reporting Requirement, of the Department of Commerce Financial Assistance Standard Terms and Conditions (dated November 12, 2020). Additionally, in accordance with 2 CFR part 170, all recipients of a federal wared were made on or after October 1, 2010, must comply with reporting requirements under the Federal Funding Accountability and Transparency Act of 2006 (Pub. L. 109-282).

¹ See Connecting Minority Communities (CMC) Notice of Funding Opportunity (NOFO) (August 3, 2021), https://www.grants.gov/web/grants/search-grants.html (available under the “Related Documents” tab).

NTIA will use the information collected from each award recipient to effectively administer and monitor the grant program to ensure the achievement of CMC program purposes and account for the expenditure of federal funds to deter waste, fraud, and abuse.

II. Method of Collection

Connecting Minority Communities Pilot Program

Award recipients will submit financial and performance reports on a semi-annual basis for the periods ending March 31st and September 30th of each year, and an annual report no later than one year after receiving grant funds and until they have expended all funds. The Baseline Report is a one-time collection of information from award recipients covering project plans and details about key outputs and outcomes that is due within 45 days of the issuance of the award. NTIA will collect data through electronic submission.

III. Data

OMB Control Number: 06XX-XXXX.

Form Number(s): TBD.

Type of Review: New information collection.

Affected Public: Grant award recipients consisting of Historically Black Colleges or Universities (HBCUs); Tribal Colleges or Universities (TCUs); Minority-serving institutions (MSIs); or consortiums that are led by a historically Black college or university, Tribal College or University, or Minority-serving institution and that also include: (a) An MBE; or (b) an organization described in section 501(c)(3) of the Internal Revenue Code of 1986 and exempt from tax under section 501(a) of such Code).

Estimated Number of Respondents: 183.

Estimated Time Per Response: 33.22.

Estimated Total Annual Burden Hours: 17,055.7.

Estimated Total Annual Cost to Public: $447,712.13.

Respondent's Obligation: Mandatory.

Legal Authority: Consolidated Appropriations Act, 2021, Division N, Title IX, Section 905, Public Law 116-260, 134 Stat. 1182 (Dec. 27, 2020).

IV. Request for Comments

We are soliciting public comments to permit the Department/Bureau to:

(a) Evaluate whether the proposed information collection is necessary for the proper functions of the Department, including whether the information will have practical utility.

(b) Evaluate the accuracy of our estimate of the time and cost burden for this proposed collection, including the validity of the methodology and assumptions used.

(c) Evaluate ways to enhance the quality, utility, and clarity of the information to be collected.

(d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-03367 Filed 2-15-22; 8:45 am]

BILLING CODE 3510-60-P